COMMISSION ON CIVIL RIGHTS

Notice of Public Meeting of the Virginia Advisory Committee; Cancellation

AGENCY: Commission on Civil Rights.

ACTION: Notice; cancellation of virtual business meeting.

SUMMARY: The Commission on Civil Rights published a notice in the Federal Register concerning a virtual business meeting of the Virginia Advisory Committee. The meeting scheduled for Tuesday, February 28, 2023, at 12:00 p.m. (ET) is cancelled. The notice is in the Federal Register of Monday, February 13, 2023, in FR Doc. 2023-02998 in the first and second columns of page 9226.

FOR FURTHER INFORMATION CONTACT: Sarah Villanueva, svillanueva@usccr.gov, 202-769-2843.

Dated: February 23, 2023.
David Mussatt,
Supervisory Chief, Regional Programs Unit.

[FR Doc. 2023-04091 Filed 2-27-23; 8:45 am]

BILLING CODE 6335-01-P